DEPARTMENT OF TRANSPORTATION

Federal Aviation Administration

14 CFR Part 39

[Docket No. FAA-2025-0914; Project Identifier MCAI-2024-00413-R; Amendment 39-23136; AD 2025-18-09]

RIN 2120-AA64

Airworthiness Directives; Airbus Helicopters

AGENCY: Federal Aviation Administration (FAA), DOT.

ACTION: Final rule.

SUMMARY: The FAA is adopting a new airworthiness directive (AD) for certain Airbus Helicopters Model AS 332L2 and EC 225LP helicopters. This AD was prompted by reports of overlengthened and deformed attachment bolts installed on the link of the main gearbox (MGB) suspension bar attachment bracket. This AD requires replacing certain attachment bolts on the MGB suspension bar fittings, inspecting the removed bolts, and reporting the results of this inspection to Airbus Helicopters. The FAA is issuing this AD to address the unsafe condition on these products.

DATES: This AD is effective October 21, 2025.

The Director of the Federal Register approved the incorporation by reference of a certain publication listed in this AD as of October 21, 2025.

ADDRESSES:

AD Docket: You may examine the AD docket at regulations.gov under Docket No. FAA-2025-0914; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

Material Incorporated by Reference:

• For European Union Aviation Safety Agency (EASA) material identified in this AD, contact EASA, Konrad-Adenauer-Ufer 3, 50668 Cologne, Germany; phone: +49 221 8999 000; email: ADs@easa.europa.eu; website: easa.europa.eu. You may find this material on the EASA website at ad.easa.europa.eu.

• You may view this material at the FAA, Office of the Regional Counsel, Southwest Region, 10101 Hillwood Parkway, Room 6N-321, Fort Worth, TX 76177. For information on the availability of this material at the FAA, call (817) 222-5110. It is also available at regulations.gov under Docket No. FAA-2025-0914.

FOR FURTHER INFORMATION CONTACT: George Weir, Aviation Safety Engineer, FAA, 1600 Stewart Avenue, Suite 410, Westbury, NY 11590; phone: (817) 222-4045; email: george.a.weir@faa.gov.

SUPPLEMENTARY INFORMATION:

Background

The FAA issued a notice of proposed rulemaking (NPRM) to amend 14 CFR part 39 by adding an AD that would apply to certain Airbus Helicopters Model AS 332L2 and EC 225LP helicopters. The NPRM was published in the Federal Register on June 2, 2025 (90 FR 23297). The NPRM was prompted by AD 2024-0142, dated July 17, 2024 (EASA AD 2024-0142) (also referred to as the MCAI), issued by EASA, which is the Technical Agent for the Member States of the European Union. The MCAI states that two attachment screws (bolts) were found overlengthened and deformed on helicopters having the new link of the MGB suspension bar attachment brackets. The MCAI further states the investigation is still ongoing and that collecting additional data to support the investigation is part of addressing the unsafe condition.

In the NPRM, the FAA proposed to require replacing certain attachment bolts on the MGB suspension bar fittings, inspecting the removed bolts, and reporting the results of this inspection to Airbus Helicopters. The FAA is issuing this AD to prevent structural failure of the MGB suspension bar attachment bolts. This condition, if not addressed, could result in failure of an MGB attachment assembly, detachment of an MGB suspension bar, and consequent loss control of the helicopter.

You may examine the MCAI in the AD docket at regulations.gov under Docket No. FAA-2025-0914.

Discussion of Final Airworthiness Directive

Comments

The FAA received no comments on the NPRM or on the determination of the costs.

Conclusion

These products have been approved by the civil aviation authority of another country and are approved for operation in the United States. Pursuant to the FAA's bilateral agreement with this State of Design Authority, that authority has notified the FAA of the unsafe condition described in the MCAI referenced above. The FAA reviewed the relevant data, considered any comments received, and determined that air safety requires adopting this AD as proposed. Accordingly, the FAA is issuing this AD to address the unsafe condition on these products. Except for minor editorial changes, this AD is adopted as proposed in the NPRM. None of the changes will increase the economic burden on any operator.

Material Incorporated by Reference Under 1 CFR Part 51

The FAA reviewed EASA AD 2024-0142. This material specifies procedures for replacing attachment screw part number 332A22-3644-20 with a part that is new (never been installed), inspecting the removed screws, and reporting the inspection results to Airbus Helicopters. The attachment screws are installed on the left-hand and right-hand rear MGB suspension bar fittings. Additionally, EASA AD 2024-0142 prohibits installing that part-numbered attachment screw on any helicopter unless it is installed in accordance with certain service instructions.

This material is reasonably available because the interested parties have access to it through their normal course of business or by the means identified in the ADDRESSES section.

Differences Between This AD and the MCAI

Where the material referenced in the MCAI specifies contacting Airbus Helicopters for instructions if the difference between (L4) and (L3) is more than 1.6 mm (.063 in), this AD requires using a repair method approved by the FAA, EASA, or Airbus Helicopters' EASA Design Organization Approval.

Where the MCAI prohibits installing an affected part unless it has been installed in accordance with certain service instructions, this AD does not contain that prohibition.

Interim Action

The FAA considers that this AD is an interim action. The inspection reports that are required by this AD will enable the manufacturer to obtain better insight into the nature and cause of the screw deformation and eventually to develop final action to address the unsafe condition. Once a final action has been identified, the FAA might consider further rulemaking.

Costs of Compliance

The FAA estimates that this AD affects 38 helicopters of U.S. registry. Labor rates are estimated at $85 per hour. Based on these numbers, the FAA estimates the following costs to comply with this AD.

Replacing a set of eight rear MGB fitting attachment bolts takes 16 work-hours and parts cost $587 for an estimated cost of $1,947 per helicopter and $73,986 for the U.S. fleet.

Reporting inspection results takes 1 work-hour for an estimated cost of $85 per helicopter.

Paperwork Reduction Act

A federal agency may not conduct or sponsor, and a person is not required to respond to, nor shall a person be subject to a penalty for failure to comply with a collection of information subject to the requirements of the Paperwork Reduction Act unless that collection of information displays a currently valid OMB Control Number. The OMB Control Number for this information collection is 2120-0056. Public reporting for this collection of information is estimated to take approximately 1 hour per response, including the time for reviewing instructions, searching existing data sources, gathering and maintaining the data needed, and completing and reviewing the collection of information. All responses to this collection of information are mandatory. Send comments regarding this burden estimate or any other aspect of this collection of information, including suggestions for reducing this burden, to: Information Collection Clearance Officer, Federal Aviation Administration, 10101 Hillwood Parkway, Fort Worth, TX 76177-1524.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2025-18-09 Airbus Helicopters: Amendment 39-23136; Docket No. FAA-2025-0914; Project Identifier MCAI-2024-00413-R.

(a) Effective Date

This airworthiness directive (AD) is effective October 21, 2025.

(b) Affected ADs

None.

(c) Applicability

This AD applies to Airbus Helicopters Model AS 332L2 and EC 225LP helicopters, certificated in any category, as identified in European Union Aviation Safety Agency AD 2024-0142, dated July 17, 2024 (EASA AD 2024-0142).

(d) Subject

Joint Aircraft System Component (JASC) Code 6330, Main Rotor Transmission Mount.

(e) Unsafe Condition

This AD was prompted by reports of overlengthened and deformed attachment bolts installed on the new link of the main gearbox (MGB) suspension bar attachment bracket. The FAA is issuing this AD to prevent structural failure of the MGB suspension bar attachment bolts. The unsafe condition, if not addressed, could result in failure of an MGB attachment assembly, detachment of an MGB suspension bar, and consequent loss control of the helicopter.

(f) Compliance

Comply with this AD within the compliance times specified, unless already done.

(g) Requirements

Except as specified in paragraph (h) of this AD: Comply with all required actions and compliance times specified in, and in accordance with, EASA AD 2024-0142.

Note 1 to paragraph (g): EASA AD 2024-0142 and Airbus Helicopters material that is referenced in EASA AD 2024-0142 refer to MGB suspension bar attachment “bolts” as “screws.”

(h) Exceptions to EASA AD 2024-0142

(1) Where paragraph (1) of EASA AD 2024-0142 requires compliance within 2,500 flight hours since first installation, this AD requires compliance as specified in paragraphs (h)(1)(i) and (ii) of this AD.

(i) For each affected part that has accumulated 2,500 or more total hours time-in-service (TIS) or if the total hours TIS on the affected part cannot be determined: Before further flight, and thereafter at intervals not to exceed 2,500 total hours TIS on the affected part.

(ii) For each affected part that has accumulated less than 2,500 total hours TIS: Before the affected part accumulates 2,500 total hours TIS, and thereafter at intervals not to exceed 2,500 total hours TIS on the affected part.

(2) Where the material referenced in EASA AD 2024-0142 specifies discarding parts, this AD requires removing those parts from service.

(3) Instead of the reporting requirement in paragraph (3) of EASA AD 2024-0142, this AD requires reporting the results of each inspection to Airbus Helicopters at the compliance time specified in paragraph (h)(3)(i) or (ii) of this AD. The report must include the total hours TIS (if known) on each bolt, the batch number and serial number of the bolt, the length of the bolt, a detailed description of any findings, any previous maintenance, and any photos (if possible).

(i) For an inspection done on or after the effective date of this AD: Submit the report within 30 days after the inspection.

(ii) For an inspection done before the effective date of this AD: Submit the report within 30 days after the effective date of this AD.

(4) This AD does not require paragraph (4) of EASA AD 2024-0142.

(5) Where the material referenced in EASA AD 2024-0142 specifies contacting Airbus Helicopters for repair instructions, this AD requires using a repair method approved by the Manager, International Validation Branch, FAA; or EASA; or Airbus Helicopters' EASA Design Organization Approval (DOA). If approved by the DOA, the approval must include the DOA-authorized signature.

(6) This AD does not adopt the “Remarks” section of EASA AD 2024-0142.

(i) Alternative Methods of Compliance (AMOCs)

(1) The Manager, International Validation Branch, FAA, has the authority to approve AMOCs for this AD, if requested using the procedures found in 14 CFR 39.19. In accordance with 14 CFR 39.19, send your request to your principal inspector or responsible Flight Standards Office, as appropriate. If sending information directly to the manager of the International Validation Branch, send it to the attention of the person identified in paragraph (j) of this AD and email to: AMOC@faa.gov.

(2) Before using any approved AMOC, notify your appropriate principal inspector, or lacking a principal inspector, the manager of the responsible Flight Standards Office.

(j) Additional Information

For more information about this AD, contact George Weir, Aviation Safety Engineer, FAA, 1600 Stewart Avenue, Suite 410, Westbury, NY 11590; phone: (817) 222-4045; email: george.a.weir@faa.gov.

(k) Material Incorporated by Reference

(1) The Director of the Federal Register approved the incorporation by reference of the material listed in this paragraph under 5 U.S.C. 552(a) and 1 CFR part 51.

(2) You must use this material as applicable to do the actions required by this AD, unless the AD specifies otherwise.

(i) European Union Aviation Safety Agency (EASA) AD 2024-0142, dated July 17, 2024.

(ii) [Reserved]

(3) For EASA material identified in this AD, contact EASA, Konrad-Adenauer-Ufer 3, 50668 Cologne, Germany; phone: +49 221 8999 000; email: ADs@easa.europa.eu; website: easa.europa.eu. You may find this material on the EASA website at ad.easa.europa.eu.

(4) You may view this material at the FAA, Office of the Regional Counsel, Southwest Region, 10101 Hillwood Parkway, Room 6N-321, Fort Worth, TX 76177. For information on the availability of this material at the FAA, call (817) 222-5110.

(5) You may view this material at the National Archives and Records Administration (NARA). For information on the availability of this material at NARA, visit www.archives.gov/federal-register/cfr/ibr-locations or email fr.inspection@nara.gov.

Issued on September 3, 2025.
Steven W. Thompson,
Acting Deputy Director, Compliance & Airworthiness Division, Aircraft Certification Service.

[FR Doc. 2025-17850 Filed 9-15-25; 8:45 am]

BILLING CODE 4910-13-P